FEDERAL EMERGENCY MANAGEMENT AGENCY

Agency Information Collection Activities: Submission for OMB Review; Comment Request

ACTION: Notice and request for comments.

SUMMARY: The Federal Emergency Management Agency has submitted the following proposed information collection to the Office of Management and Budget for review and clearance in accordance with the requirements of the Paperwork Reduction Act of 1995 (44 U.S.C. 3507).

Title: Project Impact Baseline Report and Progress Report.

Type of Information Collection: New.

OMB Number: None.

Forms: Baseline Report and Annual Progress Report.

Abstract: Congress tasked FEMA with the responsibility to design and implement a meaningful pre-disaster initiative that would reduce rapidly escalating disaster costs and provided funding towards that goal. This initiative is entitled Project Impact: Building a Disaster Resistant Community. The Government Performance Results Act requires that FEMA show that the money is being used effectively by establishing a systematic process of evaluation.

The Baseline Report and subsequent Annual Progress Report provides a means of data collection for this objective and have been developed to capture the progress of a community towards disaster resistance in a non-disaster situation. The questions in both reports request information relevant to the hazards and vulnerabilities faced by the community. There are also questions that request information about damage prevention activity and public education and awareness. The requested information will not only gauge the momentum towards disasters resistance but will indicate success of the collaborative process as well. The data collected will also be used as a basis for initiative development.

The Baseline Report will be due the 1st year, 60 days after the signing ceremony. It is critical to provide a picture of the community's ability to withstand disasters at the beginning of its designation as a Project Impact Community. It requests information necessary to evaluate the disaster resistant status of a community and should help Project Impact Communities establish their initial focus. The Annual Progress Report is due annually for five years starting on the 1st Anniversary of the signing ceremony and will allow FEMA to assess the community's progress with respect to both national goals and program initiatives. It will also provide an opportunity for a community to evaluate its own success with respect to local goals. Both these data collection mechanisms provide means to measure the proper use of grant funding as well as data for Government Performance Results Act (GPRA) reporting.

Affected Public: Federal government and State, local or tribal governments.

FEMA forms | Number of respondents (A) | Frequency of response (B) | Hours per response (in hrs.) (C) | Annual burden (in hrs.) (A × B × C)
Baseline Report | 65 | One-time | 2 | 130
Progress Reports | 113 | Annually | 2 | 226
Total | 178 |  |  | 356

Comments: Interested persons are invited to submit written comments on the proposed information collection to David Rostkler, Desk Officer for the Federal Emergency Management Agency, Office of Information and Regulatory Affairs, Office of Management and Budget, Washington, DC 20503 within October 26, 2000.

FOR FURTHER INFORMATION CONTACT: Requests for additional information or copies of the information collection should be made to Muriel B. Anderson, Chief, Records Management Branch, Federal Emergency Management Agency, 500 C Street, SW, Room 316, Washington, DC 20472. Telephone number (202) 646-2625, FAX number (202) 646-3524, or email address: muriel.anderson@ fema.gov.

Dated: September 13, 2000.
Reginald Trujillo,
Director, Program Services Division, Operations Support Directorate.

[FR Doc. 00-24701 Filed 9-25-00; 8:45 am]

BILLING CODE 6718-01-P